SMALL BUSINESS ADMINISTRATION

[License No. 06/06-0335]

Escalate Capital Partners SBIC I, L.P.; Notice Seeking Exemption Under Section 312 of the Small Business Investment Act, Conflicts of Interest

Notice is hereby given that Escalate Capital Partners SBIC I, L.P., 300 West 6th Street, Suite 2250, Austin, TX 78701, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Escalate Capital Partners SBIC I, L.P. proposes to make a debt investment in Mavenir Systems, Inc., a portfolio company of its Associate Austin Ventures.

The financing is brought within the purview of § 107.730(b) of the Regulations because Escalate Capital Partners SBIC I, L.P. proposes to Finance a small business in which its Associate Austin Ventures has an equity interest of at least five percent, so the transaction that will effect the proposed Financing requires prior SBA approval.

Notice is hereby given that any interested person may submit written comments on the transaction, within fifteen days of the date of this publication, to the Associate Administrator for Investment, U.S. Small Business Administration, 409 Third Street SW., Washington, DC 20416.

Dated: July 6, 2012.
Sean J. Greene,
Associate Administrator for Investment.

[FR Doc. 2012-17439 Filed 7-17-12; 8:45 am]

BILLING CODE P